DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on October 17, 2001 (66 FR 52827).

DATES: Comments must be submitted on or before March 8, 2002.

FOR FURTHER INFORMATION CONTACT: Ron Filbert at the National Highway Traffic Safety Administration, Office of State and Community Services (NSC-01), 202-366-2701. 400 Seventh Street, SW, Room 5238, Washington, DC 20590.

SUPPLEMENTARY INFORMATION: National Highway Traffic Safety Administration

Title: Uniform Criteria for State Observational Surveys of Seat Belt Use.

OMB Number: 2127—0597.

Type of Request: Extension of a currently approved collection.

Abstract: This collection requires the respondents, which are the States, the District of Columbia, and Puerto Rico to provide seat belt use survey information to NHTSA before they receive grant money. To be eligible for funding, the surveys must be completed by end of the calendar year and submitted to NHTSA by March 1 of the following calendar year.

Affected Public: Business of other for profit organizations.

Estimated Total Annual Burden: 17,942.

ADDRESSES: Send comments, within 30 days, to the Office of Information and Regulatory Affairs, Office of Management and Budget, 725-17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A Comment to OMB is most effective if OMB receives it within 30 days of publication.

Issued in Washington, DC, on January 31, 2002.
Delmas Johnson,
Associate Administrator for Administration.

[FR Doc. 02-2823 Filed 2-5-02; 8:45 am]

BILLING CODE 4910-59-P